DEPARTMENT OF TRANSPORTATION

Federal Aviation Administration

14 CFR Part 71

RIN 2120-AA66

[Docket No. FAA 2003-15061; Airspace Docket No. ASD 03-ASW-1]

Revision of Federal Airways V-13 and V-407; Harlingen, TX

AGENCY: Federal Aviation Administration (FAA), DOT.

ACTION: Final rule.

SUMMARY: This action revises Federal Airway 13 (V-13) northeast of the McAllen, TX, Very High Frequency Omni-directional Range/Distance Measuring Equipment (VOR/DME) by realigning the airway to intersect with V-163 south of the Corpus Christi, TX, Very High Frequency Omni-directional Range/Tactical Air Navigation (VORTAC) rather than proceeding to the Harlingen, TX, VOR/DME. Additionally, this action revises the point of origin of V-407 from the Harlingen VOR/DME to the Brownsville, TX, VORTAC and realigns V-407 north of the Harlingen VOR/DME to reflect a change of the radial of the airway. The FAA is taking this action due to the relocation of the Harlingen VOR/DME and to enhance the management of aircraft operations over the Harlingen, TX, area.

EFFECTIVE DATE: 0901 UTC, October 30, 2003.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

The FAA is relocating the Harlingen VOR/DME approximately 8 nautical miles to the southeast of its current location. As a part of that effort, on May 23, 2003, the FAA proposed to realign V-13 northeast of the McAllen VOR/DME to intersect with V-163 south of the Corpus Christi VORTAC (68 FR 28179). Additionally, the FAA proposed to revise the point of origin of V-407 from the Harlingen VOR/DME to the Brownsville VORTAC and to revise a segment of V-407 north of the Harlingen VOR/DME from the current Harlingen VOR/DME 357° radial to the new Harlingen VOR/DME 351° radial. Interested parties were invited to participate in this rulemaking proceeding by submitting written comments on this proposal to the FAA. No comments were received in response to the proposal. Except for editorial changes, this amendment is the same as that proposed in the notice.

The Rule

This amendment to 14 CFR part 71 revises V-13 and V-407 in the Harlingen, TX, area. Specifically, this action realigns V-13 northeast of the McAllen VOR/DME to intersect with V-163 south of the Corpus Christi VORTAC; revises the point of origin of V-407 from the Harlingen VOR/DME to the Brownsville VORTAC; and realigns V-407 north of the Harlingen VOR/DME to reflect the change of radial due to the relocation of the Harlingen VOR/DME. The FAA is taking this action due to the relocation of the Harlingen VOR/DME and to enhance the management of aircraft operations over the Harlingen, TX, area.

Federal airways are published in paragraph 6010(a) of FAA Order 7400.9K dated August 30, 2002, and effective September 16, 2002, which is incorporated by reference in 14 CFR 71.1. The Federal airways listed in this document will be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034, February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Amendment

In consideration of the foregoing, the Federal Aviation Administration amends 14 CFR part 71 as follows:

PART 71—DESIGNATION OF CLASS A, CLASS B, CLASS C, CLASS D, AND CLASS E AIRSPACE AREAS, AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9K, Airspace Designations and Reporting Points, dated August 30, 2002, and effective September 16, 2002, is amended as follows:

Paragraph 6010(a)—Domestic VOR Federal Airways.

* * * * *

V-13 [Revised]

From McAllen, TX, via INT McAllen 060° radial and Corpus Christi, TX, 178° radials; Corpus Christi; INT Corpus Christi 039° and Palacios, TX, 241° radials; Palacios; Humble, TX; Lufkin, TX; Belcher, LA; Texarkana, AR; Rich Mountain, OK; Fort Smith, AR; INT Fort Smith 006° and Razorback, AR, 190° radials; Razorback; Neosho, MO; Butler, MO; Napoleon, MO; Lamoni, IA; Des Moines, IA; Mason City, IA; Farmington, MN; INT Farmington 017° and Siren, WI, 218° radials; Siren; Duluth, MN; to Thunder Bay, ON, Canada. The airspace outside the United States is excluded.

* * * * *

V-407 [Revised]

From Brownsville, TX; Harlingen, TX; via INT Harlingen 351° and Corpus Christi, TX, 193° radials; Corpus Christi; via INT Corpus Christi 039° and Palacios, TX, 241° radials; Palacios; via INT Palacios 017° and Humble, TX, 242° radials; Humble; Daisetta, TX; Lufkin, TX; Elm Grove, LA; to El Dorado, AR.

* * * * *

Issued in Washington, DC, on August 22, 2003.
Reginald C. Matthews,
Manager, Airspace and Rules Division.

[FR Doc. 03-22207 Filed 8-29-03; 8:45 am]

BILLING CODE 4910-13-P